DEPARTMENT OF ENERGY

Federal Energy Regulatory Commission

[Project No. 2216-066]

New York Power Authority; Notice of Intent To Hold Public Meetings

July 21, 2006.

In accordance with the National Environmental Policy Act of 1969 and the Federal Energy Regulatory Commission's (Commission) regulations, 18 CFR part 380 (Order No. 486, 52 FR 47897), the Office of Energy Projects has reviewed the application for a new license for the Niagara Project No. 2216-066, located on the Niagara River, in Niagara County, New York, and issued a draft Environmental Impact Statement (EIS) for the project on July 14, 2006.

Copies of the draft EIS are available for review at the Commission's Public Reference Branch, Room 2A, located at 888 First Street, NE., Washington, DC 20426 or may be viewed on the Commission's Web site at http://www.ferc.gov under the e-Library link by entering the docket number, P-2216, in the e-Library docket number field. For assistance, e-mail FERC Online Support at FERCOnlineSupport@ferc.gov or call toll-free at 1-866-208-3676, or for TTY, (202) 502-8659.

You are invited to attend either one or both of two public meetings that will be held to receive comments on the draft EIS. The time and location of the meetings are as follows:

Date: August 17, 2006.

Time: 2 to 4 pm and 7 to 9 pm (EST).

Place: Niagara Falls High School Amphitheater.

Address: 4455 Porter Road, Niagara Falls, NY 14205.

At these meetings, resource agency personnel and other interested persons will have the opportunity to provide oral and written comments and recommendations regarding the draft EIS. The meetings will be recorded by a court reporter, and all statements (verbal and written) will become part of the Commission's public record for the project. These meetings are posted on the Commission's calendar located at http://www.ferc.gov/EventCalendar/EventsList.aspx along with other related information.

Whether, or not you attend one of these meetings, you are invited to submit written comments on the draft EIS. Comments should be filed with Magalie R. Salas, Secretary, Federal Energy Regulatory Commission, 888 First Street, N.E., Washington, DC 20426. All comments must be filed by September 19, 2006, and should reference Project No. 2216-066. Comments may be filed electronically via the Internet in lieu of paper. The Commission strongly encourages electronic filings. See 18 CFR 385.2001(a)(1)(iii) and instructions on the Commission's Web site at http://www.ferc.gov under the “e-Library” link.

The Commission staff will consider comments made on the draft EIS in preparing a final EIS for the project. Before the Commission makes a licensing decision, it will take into account all concerns relevant to the public interest. The final EIS will be part of the record from which the Commission will make its decision.

For further information, contact Steve Kartalia at (202) 502-6131 or at Stephen.Kartalia@ferc.gov.

Magalie R. Salas,
Secretary.

[FR Doc. E6-12236 Filed 7-28-06; 8:45 am]

BILLING CODE 6717-01-P